DEPARTMENT OF ENERGY

Federal Energy Regulatory Commission

Notice of FERC Staff Participation at MISO-PJM-SPP Reliability Seams Workshop

December 16, 2002.

The Federal Energy Regulatory Commission hereby gives notice that on December 18, 2002, members of its staff will attend the MISO-PJM-SPP reliability seams workshop, concerning proposed solutions to address parallel path flow issues and the coordination of congestion management processes and ATC/AFC values between the Midwest Independent Transmission System Operator, Inc. (MISO), PJM Interconnection (PJM) and Southwest Power Pool, Inc. (SPP) regions. The staff's attendance is part of the Commission's ongoing outreach efforts. The meeting is sponsored by MISO, PJM and SPP, and will be held on December 18, 2002, 10 a.m. at the Radisson Airport Hotel & Conference Center, 1375 North Cassady Avenue, Columbus, Ohio 43219.

This meeting is open to the public. The meeting may discuss matters at issue in Docket No. RM01-12-000, Remedying Undue Discrimination Through Open Access Transmission Service and Standard Electricity Market Design, and in Docket No. EL02-65-000, et al., Alliance Companies, et al.

For more information, contact Patrick Clarey, Office of Markets, Tariffs and Rates, Federal Energy Regulatory Commission at (202) 502-8540 or patrick.clarey@ferc.gov.

Magalie R. Salas,
Secretary.

[FR Doc. 02-32206 Filed 12-20-02; 8:45 am]

BILLING CODE 6717-01-P